DEPARTMENT OF HEALTH AND HUMAN SERVICES

Health Resources and Services Administration

National Advisory Council on Migrant Health; Notice of Meeting

In accordance with section 10(a)(2) of the Federal Advisory Committee Act (Pub. L. 92-463), notice is hereby given of the following meeting:

Name: National Advisory Council on Migrant Health

Dates and Times: May 4, 2015, 9:30 a.m. to 4:30 p.m.; May 5, 2015, 8:00 a.m. to 5:00 p.m.

Place: Riverwalk Plaza Hotel and Suites, 100 Villita Street, San Antonio, Texas 78205, Telephone: 210-225-1234

Status: The meeting will be open to the public.

Purpose: The purpose of the meeting is to discuss services and issues related to the health of migratory and seasonal agricultural workers and their families and to formulate recommendations for the Secretary of Health and Human Services.

Agenda: The agenda includes an overview of the Council's general business activities. The Council will also hear presentations from experts on agricultural worker issues, including the status of agricultural worker health at the local and national levels.

Agenda items are subject to change as priorities indicate.

FOR FURTHER INFORMATION CONTACT: CDR Jacqueline Rodrigue, M.S.W., Office of Quality Improvement, Bureau of Primary Health Care, Health Resources and Services Administration, 5600 Fishers Lane, Room 15-74, Maryland 20857; telephone (301) 443-2339.

Jackie Painter,
Director, Division of the Executive Secretariat.

[FR Doc. 2015-08486 Filed 4-13-15; 8:45 am]

BILLING CODE 4165-15-P